DEPARTMENT OF COMMERCE

National Telecommunications and Information Administration

Agency Information Collection Activities; Submission for OMB, Comment Request; Digital Equity Competitive Grant Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 26, 2024, during a 60-day comment period. This notice allows for an additional 30 days for public comments.

Agency: National Telecommunications and Information Administration (NTIA), Commerce.

Title: Digital Equity Competitive Grant Program (DECGP).

OMB Control Number: 0660-XXXX.

Form Number(s): None.

Type of Request: New information collection.

Number of Respondents: 500 for the Consolidated Budget Form, Application Form, and Project(s) Description Form; 300 for the Partnership Members Form).

Average Hours per Response: 15 hours (4 hours for the Consolidated Budget Form, 6 hours for the Application Form, 3 hours for the Project(s) Description Form; and 2 hours for the Partnership Members Form).

Burden Hours: 7,100 hours.

Needs and Uses: With this information collection, NTIA will review the proposed applications and budgets of applicants to evaluate alignment to DECGP requirements and program priorities. Applicants will have more structured questions and guidance for their applications. The forms will ultimately reduce the applicant burden by making the application process clearer and simpler. Additionally, the structured forms will reduce application errors and the number of application updates needed after the applications have been submitted.

Affected Public: Eligible entities applying for Infrastructure Investment and Jobs Act Digital Equity Competitive Grant Program funding, including a political subdivision, agency, or instrumentality of a State, including an agency of a State that is responsible for administering or supervising adult education and literacy activities, or for providing public housing, in the State; Indian Tribes, Alaska Native entities, and Native Hawaiian organizations; foundations, corporations, institutions, and associations that are not-for-profit entities and not schools; community anchor institutions; local educational agencies; and entities that carry out workforce development programs; and other eligible entities (or partnerships between such entities).

Frequency: One-time submission.

Respondent's Obligation: Mandatory.

Legal Authority: Section 60305 of the Infrastructure Investment and Jobs Act of 2021, Public Law 117-58, 135 Stat. 429 (November 15, 2021).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2024-13281 Filed 6-14-24; 8:45 am]

BILLING CODE 3510-60-P